DEPARTMENT OF COMMERCE

National Oceanic and Atmospheric Administration

DEPARTMENT OF THE INTERIOR

U.S. Fish and Wildlife Service

[I.D. 032300B]

Marine Mammals; File No. 960-1528-00

AGENCIES: National Marine Fisheries Service (NMFS), National Oceanic and Atmospheric Administration (NOAA), Commerce; U.S. Fish and Wildlife Service (USFWS), Interior.

ACTION: Issuance of permit.

SUMMARY: Notice is hereby given that Museum of Natural History Collections, Department of Environmental Studies, University of California, Santa Cruz, CA 95064 [Principal Investigator: Jeff Davis] has been issued a permit to take collect, import/export marine mammal specimens of the Orders Cetacea, Pinnipedia and Sirenia for purposes of scientific research and for deposit into a museum collection.

ADDRESSES: The permit and related documents are available for review upon written request or by appointment in the following office(s):

Permits and Documentation Division, Office of Protected Resources, NMFS, 1315 East-West Highway, Room 13705, Silver Spring, MD 20910 (301/713-2289); and

Regional Administrator, Southwest Region, NMFS, 501 West Ocean Blvd., Suite 4200, Long Beach, CA 90802-4213 (562/980-4001)

FOR FURTHER INFORMATION CONTACT: Ruth Johnson, 301/713-2289.

SUPPLEMENTARY INFORMATION: On October 8, 1999, notice was published in the Federal Register (64 FR 54907) that a request for a scientific research permit to take marine mammal specimen had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Issuance of this permit, as required by the ESA, was based on a finding that such permit (1) was applied for in good faith, (2) will not operate to the disadvantage of the endangered species which is the subject of this permit, and (3) is consistent with the purposes and policies set forth in section 2 of the ESA.

Dated: May 16, 2000.
Ann D. Terbush,
Chief, Permits and Documentation Division, Office of Protected Resources, National Marine Fisheries Service.
Dated: May 11, 2000.
Kristen Nelson,
Chief, Branch of Permits, U.S. Fish and Wildlife Service, Department of the Interior.

[FR Doc. 00-12838 Filed 5-19-00; 8:45 am]

BILLING CODE 3510-22-F